ENVIRONMENTAL PROTECTION AGENCY

40 CFR Part 52

[EPA-R10-OAR-2016-0784; FRL-9960-83-Region 10]

Air Plan Approval; Washington: General Regulations for Air Pollution Sources, Southwest Clean Air Agency Jurisdiction

AGENCY: Environmental Protection Agency (EPA).

ACTION: Final rule.

SUMMARY: The Environmental Protection Agency (EPA) is approving revisions to the Washington State Implementation Plan (SIP) that were submitted by the Washington Department of Ecology (Ecology) in coordination with Southwest Clean Air Agency (SWCAA) on December 20, 2016. In the fall of 2014 and spring of 2015, the EPA approved numerous revisions to Ecology's general air quality regulations. However, our approval of the updated Ecology regulations applied only to geographic areas where Ecology, and not a local air agency, had jurisdiction, and statewide, to source categories over which Ecology had sole jurisdiction. Under the Washington Clean Air Act, local clean air agencies may adopt equally stringent or more stringent requirements in lieu of Ecology's general air quality regulations, if they so choose. Therefore, the EPA stated that we would evaluate the general air quality regulations as they applied to local jurisdictions in separate, future actions. This final action approves the submitted SWCAA general air quality regulations to replace or supplement the corresponding Ecology regulations for sources in SWCAA's jurisdiction, including implementation of the minor new source review and nonattainment new source review permitting programs. This action also approves a limited subset of Ecology regulations, for which there are no corresponding SWCAA corollaries, to apply in SWCAA's jurisdiction.

DATES: This final rule is effective May 10, 2017.

ADDRESSES: The EPA has established a docket for this action under Docket ID No. EPA-R10-OAR-2016-0784. All documents in the docket are listed on the http://www.regulations.gov Web site. Although listed in the index, some information may not be publicly available, i.e., Confidential Business Information or other information the disclosure of which is restricted by statute. Certain other material, such as copyrighted material, is not placed on the Internet and is publicly available only in hard copy form. Publicly available docket materials are available at http://www.regulations.gov or at EPA Region 10, Office of Air and Waste, 1200 Sixth Avenue, Seattle, Washington 98101. The EPA requests that you contact the person listed in the FOR FURTHER INFORMATION CONTACT section to schedule your inspection. The Regional Office's official hours of business are Monday through Friday, 8:30 to 4:30, excluding Federal holidays.

FOR FURTHER INFORMATION CONTACT: Jeff Hunt, Air Planning Unit, Office of Air and Waste (OAW-150), Environmental Protection Agency, Region 10, 1200 Sixth Ave, Suite 900, Seattle, WA 98101; telephone number: (206) 553-0256; email address: hunt.jeff@epa.gov.

SUPPLEMENTARY INFORMATION:

Table of Contents

I. Background Information

II. Response to Comments

III. Final Action

IV. Incorporation by Reference

V. Statutory and Executive Orders Review

I. Background Information

On January 19, 2017, the EPA proposed to approve revisions to SWCAA's general air quality regulations and a limited subset of Ecology regulations to apply in SWCAA's jurisdiction (82 FR 6413). An explanation of the Clean Air Act (CAA) requirements, a detailed analysis of the revisions, and the EPA's reasons for proposing approval were provided in the notice of proposed rulemaking, and will not be restated here. The public comment period for this proposed rule ended on February 21, 2017. The EPA received two, separate anonymous comments on the proposal.

II. Response to Comments

Comment #1: The commenter asserted that the EPA's proposed action is an example of federal overreach on state and local jurisdictions. The commenter also stated that the EPA's review and proposed approval of the SWCAA regulations violates the Tenth Amendment to the United States Constitution.

Response: Under the CAA, as established and amended by Congress, state and local authorities take the lead in developing State Implementation Plans (SIP) that implement, maintain, and enforce the national ambient air quality standards (NAAQS), which are standards designed to protect public health and welfare from air pollution. In reviewing SIP submissions, the EPA's role is to approve state choices, provided that they meet the criteria of the CAA. 42 U.S.C. 7410(k); 40 CFR 52.02(a). In this case, EPA has done just that—Washington elected to submit the SWCAA and Ecology SIP revision to the EPA, and the EPA has proposed to approve the submission based on our determination that it meets the requirements of the CAA. We are now finalizing our determination.

With respect to the claim that the EPA's action in approving this SIP submittal violates the Tenth Amendment, the Supreme Court has repeatedly affirmed the constitutionality of federal statutes, such as Section 110 of the CAA, that allow States to administer federal programs but provide for direct federal administration if a State chooses not to administer it. See Texas v. EPA, 726 F.3d 180, 196-7 (D.C. Cir. 2013) (citing New York v. United States, 505 U.S. 144, 167-8, 173-4 (1992); Hodel v. Va. Surface Mining & Reclamation Ass'n, Inc., 452 U.S. 264m 288 (1981)).

Comment #2: A second commenter wrote in support of the EPA's proposed approval of the SWCAA and Ecology SIP revision.

Response: We are now finalizing our proposed determination that the SWCAA and Ecology SIP revision meets the requirements of the CAA.

III. Final Action

A. Regulations Approved and Incorporated by Reference Into the SIP

The EPA is approving, and incorporating by reference, into the Washington SIP at 40 CFR 52.2470(c)—Table 8—Additional Regulations Approved for the Southwest Clean Air Agency (SWCAA) Jurisdiction, the SWCAA and Ecology regulations listed in Tables 1 and 2 below for sources within SWCAA's jurisdiction.

Table 1—Southwest Clean Air Agency (SWCAA) Regulations for Proposed Approval and Incorporation by Reference
State/local citation | Title/subject | State/local effective date | Explanations
SWCAA 400—General Regulations for Air Pollution Sources
400-010 | Policy and Purpose | 03/18/01 |
400-020 | Applicability | 10/09/16 |
400-030 | Definitions | 10/09/16 | Except: 400-030(21) and (129).
400-036 | Portable Sources from Other Washington Jurisdictions | 10/09/16 |
400-040 | General Standards for Maximum Emissions | 10/09/16 | Except: 400-040(1)(a), (c) and (d); 400-040(2); and 400-040(4).
400-050 | Emission Standards for Combustion and Incineration Units | 10/09/16 | Except: 400-050(3); 400-050(5); and 400-050(6).
400-060 | Emission Standards for General Process Units | 10/09/16 |
400-070 | General Requirements for Certain Source Categories | 10/09/16 | Except: 400-070(2)(a); 400-070(3)(b); 400-070(5); 400-070(6); 400-070(7); 400-070(8)(c); 400-070(9); 400-070(10); 400-070(11); 400-070(12); 400-070(14); and 400-070(15)(c).
400-072 | Small Unit Notification for Selected Source Categories | 10/09/16 | Except: 400-072(5)(a)(ii)(B); 400-072(5)(d)(ii)(B); 400-072(5)(d)(iii)(A); 400-072(5)(d)(iii)(B); and all reporting requirements related to toxic air pollutants.
400-074 | Gasoline Transport Tanker Registration | 11/15/09 | Except: 400-074(2).
400-081 | Startup and Shutdown | 10/09/16 |
400-091 | Voluntary Limits on Emissions | 10/09/16 |
400-105 | Records, Monitoring and Reporting | 10/09/16 | Except: reporting requirements related to toxic air pollutants.
400-106 | Emission Testing and Monitoring at Air Contaminant Sources | 10/09/16 | Except: 400-106(1)(d) through (g); and 400-106(2).
400-109 | Air Discharge Permit Applications | 10/09/16 | Except: The toxic air pollutant emissions thresholds contained in 400-109(3)(d); 400-109(3)(e)(ii); and 400-109(4).
400-110 | Application Review Process for Stationary Sources (New Source Review) | 10/09/16 | Except: 400-110(1)(d).
400-111 | Requirements for New Sources in a Maintenance Plan Area | 10/09/16 | Except: 400-111(7).
400-112 | Requirements for New Sources in Nonattainment Areas | 10/09/16 | Except: 400-112(6).
400-113 | Requirements for New Sources in Attainment or Nonclassifiable Areas | 10/09/16 | Except: 400-113(5).
400-114 | Requirements for Replacement or Substantial Alteration of Emission Control Technology at an Existing Stationary Source | 11/09/03 |
400-116 | Maintenance of Equipment | 11/09/03 |
400-130 | Use of Emission Reduction Credits | 10/09/16 |
400-131 | Deposit of Emission Reduction Credits Into Bank | 10/09/16 |
400-136 | Maintenance of Emission Reduction Credits in Bank | 10/09/16 |
400-151 | Retrofit Requirements for Visibility Protection | 11/09/03 |
400-161 | Compliance Schedules | 03/18/01 |
400-171 | Public Involvement | 10/09/16 | Except: 400-171(2)(a)(xii).
400-190 | Requirements for Nonattainment Areas | 10/09/16 |
400-200 | Vertical Dispersion Requirement, Creditable Stack Height and Dispersion Techniques | 10/09/16 | Except: 400-200(1).
400-205 | Adjustment for Atmospheric Conditions | 03/18/01 |
400-210 | Emission Requirements of Prior Jurisdictions | 03/18/01 |
400-800 | Major Stationary Source and Major Modification in a Nonattainment Area | 10/09/16 |
400-810 | Major Stationary Source and Major Modification Definitions | 10/09/16 |
400-820 | Determining If a New Stationary Source or Modification to a Stationary Source is Subject to These Requirements | 10/09/16 |
400-830 | Permitting Requirements | 10/09/16 |
400-840 | Emission Offset Requirements | 10/09/16 |
400-850 | Actual Emissions—Plantwide Applicability Limitation (PAL) | 10/09/16 |
400-860 | Public Involvement Procedures | 10/09/16 |
Appendix A | SWCAA Method 9 Visual Opacity Determination Method | 10/09/16 |
Appendix B | Description of Vancouver Ozone and Carbon Monoxide Maintenance Area Boundary | 10/09/16 |

Table 2—Washington State Department of Ecology Regulations for Proposed Approval and Incorporation by Reference
State/local citation | Title/subject | State/local effective date | Explanations
Chapter 173-400 WAC, General Regulations for Air Pollution Sources
173-400-117 | Special Protection Requirements for Federal Class I Areas | 12/29/12 | For permits issued under the applicability provisions of WAC 173-400-800.
173-400-118 | Designation of Class I, II, and III Areas | 12/29/12 |
173-400-560 | General Order of Approval | 12/29/12 | Except:—The part of 173-400-560(1)(f) that says, “173-460 WAC”.

B. Approved but Not Incorporated by Reference Regulations

In addition to the regulations approved and incorporated by reference stated previously, the EPA reviews and approves state and local clean air agency submissions to ensure they provide adequate enforcement authority and other general authority to implement and enforce the SIP. However, regulations describing such agency enforcement and other general authority are generally not incorporated by reference so as to avoid potential conflict with the EPA's independent authorities. The EPA has reviewed and is approving SWCAA 400-220 Requirements for Board Members, SWCAA 400-230 Regulatory Actions and Civil Penalties, SWCAA 400-240 Criminal Penalties, SWCAA 400-250 Appeals, SWCAA 400-260 Conflict of Interest; SWCAA 400-270 Confidentiality of Records and Information, and SWCAA 400-280 Powers of Agency as providing SWCAA adequate enforcement and other general authorities for purposes of implementing and enforcing its SIP. However, the EPA is not incorporating these sections by reference into the SIP codified in 40 CFR 52.2470(c). Instead, the EPA is including these sections in 40 CFR 52.2470(e), EPA Approved Nonregulatory Provisions and Quasi-Regulatory Measures, as approved but not incorporated by reference regulatory provisions.

C. Regulations To Remove From the SIP

The Ecology regulations contained in Washington's SIP at 40 CFR 52.2470(c)—Table 8—Additional Regulations Approved for the Southwest Clean Air Agency (SWCAA) Jurisdiction were last approved by the EPA on June 2, 1995 (60 FR 28726). As discussed in the proposal for this action, under the Washington Clean Air Act, local air agencies have the option of adopting and implementing equally stringent or more stringent corresponding provisions to apply in lieu of Chapter 173-400 WAC, or parts of Chapter 173-400 WAC. With the exception of updated versions of WAC 173-400-117, 173-400-118, and 173-400-560, SWCAA requested that the submitted SWCAA regulations replace the existing WAC provisions currently in the SIP for its jurisdiction. Also as discussed in the proposal, we are removing from the SIP SWCAA 400-050(3) [formerly 400-050(2)], 400-052, 400-070(6), 400-070(8)(c) [formerly 400-070(7)(c) and (d)], 400-074(2), 400-100, 400-101, and 400-109(4), because removal of these provisions would not interfere with any applicable requirement concerning attainment and reasonable further progress, or any other applicable requirement of the CAA. We also note that the SIP includes a reference to SWCAA 400-090 which was renumbered to SWCAA 400-091 on September 21, 1995. We are removing the reference to SWCAA 400-090 in the SIP which was inadvertently not addressed as part of our February 26, 1997 approval of SWCAA 400-091 (62 FR 8624).

D. Scope of Proposed Action

This revision to the Washington SIP applies specifically to the SWCAA jurisdiction incorporated at 40 CFR 52.2470(c)—Table 8. As discussed in our October 3, 2014 approval of revisions to the WAC, local air agency jurisdiction in Washington is generally defined on a geographic basis; however, there are exceptions (79 FR 59653, at page 59654). By statute, SWCAA does not have authority for sources under the jurisdiction of the Energy Facility Site Evaluation Council (EFSEC). See Revised Code of Washington Chapter 80.50. Under the applicability provisions of WAC 173-405-012, 173-410-012, and 173-415-012, SWCAA also does not have jurisdiction for kraft pulp mills, sulfite pulping mills, and primary aluminum plants. For these sources, Ecology retains statewide, direct jurisdiction. Ecology also retains statewide, direct jurisdiction for the prevention of significant deterioration (PSD) permitting program. Therefore, the EPA is not approving into 40 CFR 52.2470(c)—Table 8 the provisions of Chapter 173-400 WAC related to the PSD program. Specifically, the provisions are WAC 173-400-116 and WAC 173-400-700 through 750, already approved by the EPA as applying state-wide.

Jurisdiction to implement the visibility permitting program contained in WAC 173-400-117 varies depending on the situation (see 80 FR 23721, April 29, 2015, at page 80 FR 23726). Ecology retains authority to implement WAC 173-400-117 as it relates to PSD permits. However, for facilities subject to major nonattainment new source review (NSR) under the applicability provisions of SWCAA 400-800, we are approving SWCAA to implementing those parts of WAC 173-400-117 as they relate to major nonattainment NSR permits. We are also modifying the visibility protection Federal Implementation Plan contained in 40 CFR 52.2498 to reflect the approval of WAC 173-400-117 as it applies to implementation of the major nonattainment NSR program in SWCAA's jurisdiction.

Lastly, this SIP revision is not approved to apply on any Indian reservation land in the State, or any other area where the EPA or an Indian tribe has demonstrated that a tribe has jurisdiction.

IV. Incorporation by Reference

In this rule, the EPA is finalizing regulatory text that includes incorporation by reference. In accordance with requirements of 1 CFR 51.5, the EPA is finalizing the incorporation by reference as described in the amendments to 40 CFR part 52 set forth below. These materials have been approved by the EPA for inclusion in the State Implementation Plan, have been incorporated by reference by the EPA into that plan, are fully federally-enforceable under sections 110 and 113 of the CAA as of the effective date of the final rulemaking of the EPA's approval, and will be incorporated by reference by the Director of the Federal Register in the next update to the SIP compilation.¹ The EPA has made, and will continue to make, these materials generally available through http://www.regulations.gov and/or at the EPA Region 10 Office (please contact the person identified in the For Further Information Contact section of this preamble for more information).

¹ 62 FR 27968 (May 22, 1997).

V. Statutory and Executive Orders Review

Under the CAA, the Administrator is required to approve a SIP submission that complies with the provisions of the CAA and applicable federal regulations. 42 U.S.C. 7410(k); 40 CFR 52.02(a). Thus, in reviewing SIP submissions, the EPA's role is to approve state choices, provided that they meet the criteria of the CAA. Accordingly, this action merely approves state law as meeting federal requirements and does not impose additional requirements beyond those imposed by state law. For that reason, this action:

• Is not a “significant regulatory action” subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because this action does not involve technical standards; and

• does not provide the EPA with the discretionary authority to address, as appropriate, disproportionate human health or environmental effects, using practicable and legally permissible methods, under Executive Order 12898 (59 FR 7629, February 16, 1994).

This SIP revision is not approved to apply on any Indian reservation land in Washington or any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by June 9, 2017. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: March 20, 2017.
Michelle L. Pirzadeh,
Acting Regional Administrator, Region 10.

For the reasons set forth in the preamble, 40 CFR part 52 is amended as follows:

PART 52—APPROVAL AND PROMULGATION OF IMPLEMENTATION PLANS

1. The authority citation for part 52 continues to read as follows:

Authority: 42 U.S.C. 7401 et seq.

Subpart WW—Washington

2. Amend § 52.2470 by revising Table 8 of paragraph (c) and Table 1 of paragraph (e), to read as follows:

§ 52.2470 Identification of plan.

* * * * *

(c) * * *

Table 8—Additional Regulations Approved for the Southwest Clean Air Agency (SWCAA) Jurisdiction
[Applicable in Clark, Cowlitz, Lewis, Skamania and Wahkiakum counties, excluding facilities subject to Energy Facilities Site Evaluation Council (EFSEC) jurisdiction, Indian reservations and any other area where the EPA or an Indian tribe has demonstrated that a tribe has jurisdiction, and facilities subject to the applicability sections of WAC 173-405-012, 173-410-012, and 173-415-012]
State/local citation | Title/subject | State/local effective date | EPA approval date | Explanations
Southwest Clean Air Agency Regulations
SWCAA 400—General Regulations for Air Pollution Sources
400-010 | Policy and Purpose | 03/18/01 | 04/10/17, [Insert Federal Register citation]
400-020 | Applicability | 10/09/16 | 04/10/17, [Insert Federal Register citation]
400-030 | Definitions | 10/09/16 | 04/10/17, [Insert Federal Register citation] | Except: 400-030(21) and (129).
400-036 | Portable Sources from Other Washington Jurisdictions | 10/09/16 | 04/10/17, [Insert Federal Register citation]
400-040(1)(a) | General Standards for Maximum Emissions | 9/21/95 | 2/26/97, 62 FR 8624
400-040 | General Standards for Maximum Emissions | 10/09/16 | 04/10/17, [Insert Federal Register citation] | Except: 400-040(1)(a), (c) and (d); 400-040(2); and 400-040(4).
400-050 | Emission Standards for Combustion and Incineration Units | 10/09/16 | 04/10/17, [Insert Federal Register citation] | Except: 400-050(3); 400-050(5); and 400-050(6).
400-060 | Emission Standards for General Process Units | 10/09/16 | 04/10/17, [Insert Federal Register citation]
400-070(2)(a) | Emission Standards for Certain Source Categories | 9/21/95 | 2/26/97, 62 FR 8624
400-070 | General Requirements for Certain Source Categories | 10/09/16 | 04/10/17, [Insert Federal Register citation] | Except: 400-070(2)(a); 400-070(3)(b); 400-070(5); 400-070(6); 400-070(7); 400-070(8)(c); 400-070(9); 400-070(10); 400-070(11); 400-070(12); 400-070(14); and 400-070(15)(c).
400-072 | Small Unit Notification for Selected Source Categories | 10/09/16 | 04/10/17, [Insert Federal Register citation] | Except: 400-072(5)(a)(ii)(B); 400-072(5)(d)(ii)(B); 400-072(5)(d)(iii)(A); 400-072(5)(d)(iii)(B); and all reporting requirements related to toxic air pollutants.
400-074 | Gasoline Transport Tanker Registration | 11/15/09 | 04/10/17, [Insert Federal Register citation] | Except: 400-074(2).
400-081 | Startup and Shutdown | 10/09/16 | 04/10/17, [Insert Federal Register citation]
400-091 | Voluntary Limits on Emissions | 10/09/16 | 04/10/17, [Insert Federal Register citation]
400-105 | Records, Monitoring and Reporting | 10/09/16 | 04/10/17, [Insert Federal Register citation] | Except: Reporting requirements related to toxic air pollutants.
400-106 | Emission Testing and Monitoring at Air Contaminant Sources | 10/09/16 | 04/10/17, [Insert Federal Register citation] | Except: 400-106(1)(d) through (g); and 400-106(2).
400-107 | Excess Emissions | 9/21/95 | 2/26/97, 62 FR 8624
400-109 | Air Discharge Permit Applications | 10/09/16 | 04/10/17, [Insert Federal Register citation] | Except: The toxic air pollutant emissions thresholds contained in 400-109(3)(d); 400-109(3)(e)(ii); and 400-109(4).
400-110 | Application Review Process for Stationary Sources (New Source Review) | 10/09/16 | 04/10/17, [Insert Federal Register citation] | Except: 400-110(1)(d).
400-111 | Requirements for New Sources in a Maintenance Plan Area | 10/09/16 | 04/10/17, [Insert Federal Register citation] | Except: 400-111(7).
400-112 | Requirements for New Sources in Nonattainment Areas | 10/09/16 | 04/10/17, [Insert Federal Register citation] | Except: 400-112(6).
400-113 | Requirements for New Sources in Attainment or Nonclassifiable Areas | 10/09/16 | 04/10/17, [Insert Federal Register citation]
400-114 | Requirements for Replacement or Substantial Alteration of Emission Control Technology at an Existing Stationary Source | 11/09/03 | 04/10/17, [Insert Federal Register citation]
400-116 | Maintenance of Equipment | 11/09/03 | 04/10/17, [Insert Federal Register citation]
400-130 | Use of Emission Reduction Credits | 10/09/16 | 04/10/17, [Insert Federal Register citation]
400-131 | Deposit of Emission Reduction Credits Into Bank | 10/09/16 | 04/10/17, [Insert Federal Register citation]
400-136 | Maintenance of Emission Reduction Credits in Bank | 10/09/16 | 04/10/17, [Insert Federal Register citation]
400-151 | Retrofit Requirements for Visibility Protection | 11/09/03 | 04/10/17, [Insert Federal Register citation]
400-161 | Compliance Schedules | 03/18/01 | 04/10/17, [Insert Federal Register citation]
400-171 | Public Involvement | 10/09/16 | 04/10/17, [Insert Federal Register citation] | Except: 400-171(2)(a)(xii).
400-190 | Requirements for Nonattainment Areas | 10/09/16 | 04/10/17, [Insert Federal Register citation]
400-200 | Vertical Dispersion Requirement, Creditable Stack Height and Dispersion Techniques | 10/09/16 | 04/10/17, [Insert Federal Register citation]
400-205 | Adjustment for Atmospheric Conditions | 03/18/01 | 04/10/17, [Insert Federal Register citation]
400-210 | Emission Requirements of Prior Jurisdictions | 03/18/01 | 04/10/17, [Insert Federal Register citation]
400-800 | Major Stationary Source and Major Modification in a Nonattainment Area | 10/09/16 | 04/10/17, [Insert Federal Register citation]
400-810 | Major Stationary Source and Major Modification Definitions | 10/09/16 | 04/10/17, [Insert Federal Register citation]
400-820 | Determining If a New Stationary Source or Modification to a Stationary Source is Subject to These Requirements | 10/09/16 | 04/10/17, [Insert Federal Register citation]
400-830 | Permitting Requirements | 10/09/16 | 04/10/17, [Insert Federal Register citation]
400-840 | Emission Offset Requirements | 10/09/16 | 04/10/17, [Insert Federal Register citation]
400-850 | Actual Emissions—Plantwide Applicability Limitation (PAL) | 10/09/16 | 04/10/17, [Insert Federal Register citation]
400-860 | Public Involvement Procedures | 10/09/16 | 04/10/17, [Insert Federal Register citation]
Appendix A | SWCAA Method 9 Visual Opacity Determination Method | 10/09/16 | 04/10/17, [Insert Federal Register citation]
Appendix B | Description of Vancouver Ozone and Carbon Monoxide Maintenance Area Boundary | 10/09/16 | 04/10/17, [Insert Federal Register citation]
Emission Standards and Controls for Sources Emitting Volatile Organic Compounds
490-010 | Policy and Purpose | 11/21/96 | 5/19/97, 62 FR 27204
490-020 | Definitions | 11/21/96 | 5/19/97, 62 FR 27204
490-025 | General Applicability | 11/21/96 | 5/19/97, 62 FR 27204
490-030 | Registration and Reporting | 11/21/96 | 5/19/97, 62 FR 27204
490-040 | Requirements | 11/21/96 | 5/19/97, 62 FR 27204
490-080 | Exceptions & Alternative Methods | 11/21/96 | 5/19/97, 62 FR 27204
490-090 | New Source Review | 11/21/96 | 5/19/97, 62 FR 27204
490-200 | Petroleum Refinery Equipment Leaks | 11/21/96 | 5/19/97, 62 FR 27204
490-201 | Petroleum Liquid Storage in External Floating Roof Tanks | 11/21/96 | 5/19/97, 62 FR 27204
490-202 | Leaks from Gasoline Transport Tanks and Vapor Collection Systems | 11/21/96 | 5/19/97, 62 FR 27204
490-203 | Perchloroethylene Dry Cleaning Systems | 11/21/96 | 5/19/97, 62 FR 27204
490-204 | Graphic Arts Systems | 11/21/96 | 5/19/97, 62 FR 27204
490-205 | Surface Coating of Miscellaneous Metal Parts and Products | 11/21/96 | 5/19/97, 62 FR 27204
490-207 | Surface Coating of Flatwood Paneling | 11/21/96 | 5/19/97, 62 FR 27204
490-208 | Aerospace Assembly & Component Coating Operations | 11/21/96 | 5/19/97, 62 FR 27204
Emissions Standards and Controls for Sources Emitting Gasoline Vapors
491-010 | Policy and Purpose | 11/21/96 | 5/19/97, 62 FR 27204
491-015 | Applicability | 11/21/96 | 5/19/97, 62 FR 27204
491-020 | Definitions | 11/21/96 | 5/19/97, 62 FR 27204
491-030 | Registration | 11/21/96 | 5/19/97, 62 FR 27204
491-040 | Gasoline Vapor Control Requirements | 11/21/96 | 5/19/97, 62 FR 27204
491-050 | Failures, Certification, Testing & Recordkeeping | 11/21/96 | 5/19/97, 62 FR 27204
491-060 | Severability | 11/21/96 | 5/19/97, 62 FR 27204
Oxygenated Fuels
492-010 | Policy and Purpose | 11/21/96 | 4/30/97, 62 FR 23363
492-020 | Applicability | 11/21/96 | 4/30/97, 62 FR 23363
492-030 | Definitions | 11/21/96 | 4/30/97, 62 FR 23363
492-040 | Compliance Requirements | 11/21/96 | 4/30/97, 62 FR 23363
492-050 | Registration Requirements | 11/21/96 | 4/30/97, 62 FR 23363
492-060 | Labeling Requirements | 11/21/96 | 4/30/97, 62 FR 23363
492-070 | Control Area and Control Period | 11/21/96 | 4/30/97, 62 FR 23363
492-080 | Enforcement and Compliance | 11/21/96 | 4/30/97, 62 FR 23363
492-090 | Unplanned Conditions | 11/21/96 | 4/30/97, 62 FR 23363
492-100 | Severability | 11/21/96 | 4/30/97, 62 FR 23363
VOC Area Source Rules
493-100 | Consumer Products (Reserved) | 05/26/96 | 5/19/97, 62 FR 27204
493-200-010 | Applicability | 05/26/96 | 5/19/97, 62 FR 27204
493-200-020 | Definitions | 05/26/96 | 5/19/97, 62 FR 27204
493-200-030 | Spray Paint Standards & Exemptions | 05/26/96 | 5/19/97, 62 FR 27204
493-200-040 | Requirements for Manufacture, Sale and Use of Spray Paint | 05/26/96 | 5/19/97, 62 FR 27204
493-200-050 | Recordkeeping & Reporting Requirements | 05/26/96 | 5/19/97, 62 FR 27204
493-200-060 | Inspection and Testing Requirements | 05/26/96 | 5/19/97, 62 FR 27204
493-300-010 | Applicability | 5/26/96 | 5/19/97, 62 FR 27204
493-300-020 | Definitions | 5/26/96 | 5/19/97, 62 FR 27204
493-300-030 | Standards | 5/26/96 | 5/19/97, 62 FR 27204
493-300-040 | Requirements for Manufacture, Sale and Use of Architectural Coatings | 5/26/96 | 5/19/97, 62 FR 27204
493-300-050 | Recordkeeping & Reporting Requirements | 5/26/96 | 5/19/97, 62 FR 27204
493-300-060 | Inspection and Testing Requirements | 5/26/96 | 5/19/97, 62 FR 27204
493-400-010 | Applicability | 05/26/96 | 5/19/97, 62 FR 27204
493-400-020 | Definitions | 05/26/96 | 5/19/97, 62 FR 27204
493-400-030 | Coating Standards & Exemptions | 05/26/96 | 5/19/97, 62 FR 27204
493-400-040 | Requirements for Manufacture & Sale of Coating | 05/26/96 | 5/19/97, 62 FR 27204
493-400-050 | Requirements for Motor Vehicle Refinishing in Vancouver AQMA | 05/26/96 | 5/19/97, 62 FR 27204
493-400-060 | Recordkeeping and Reporting Requirements | 05/26/96 | 5/19/97, 62 FR 27204
493-400-070 | Inspection & Testing Requirements | 05/26/96 | 5/19/97, 62 FR 27204
493-500-010 | Applicability | 05/26/96 | 05/19/97, 62 FR 27204
493-500-020 | Compliance Extensions | 05/26/96 | 05/19/97, 62 FR 27204
493-500-030 | Exemption from Disclosure to the Public | 05/26/96 | 05/19/97, 62 FR 27204
493-500-040 | Future Review | 05/26/96 | 05/19/97, 62 FR 27204
Washington Department of Ecology Regulations
Washington Administrative Code, Chapter 173-400—General Regulations for Air Pollution Sources
173-400-117 | Special Protection Requirements for Federal Class I Areas | 12/29/12 | 04/10/17, [Insert Federal Register citation] | For permits issued under the applicability provisions of WAC 173-400-800.
173-400-118 | Designation of Class I, II, and III Areas | 12/29/12 | 04/10/17, [Insert Federal Register citation]
173-400-560 | General Order of Approval | 12/29/12 | 04/10/17, [Insert Federal Register citation] | Except:—The part of 173-400-560(1)(f) that says, “173-460 WAC”.

* * * * *

(e) * * *

Table 1—Approved but not Incorporated by Reference Regulations
State/local citation | Title/subject | State/local effective date | EPA approval date | Explanations
Washington Department of Ecology Regulations
173-400-220 | Requirements for Board Members | 3/22/91 | 6/2/95, 60 FR 28726
173-400-230 | Regulatory Actions | 3/20/93 | 6/2/95, 60 FR 28726
173-400-240 | Criminal Penalties | 3/22/91 | 6/2/95, 60 FR 28726
173-400-250 | Appeals | 9/20/93 | 6/2/95, 60 FR 28726
173-400-260 | Conflict of Interest | 07/01/16 | 10/6/16, 81 FR 69385
173-433-200 | Regulatory Actions and Penalties | 10/18/90 | 1/15/93, 58 FR 4578
Benton Clean Air Agency Regulations
2.01 | Powers and Duties of the Benton Clean Air Agency (BCAA) | 12/11/14 | 11/17/15, 80 FR 71695
2.02 | Requirements for Board of Directors Members | 12/11/14 | 11/17/15, 80 FR 71695 | Replaces WAC 173-400-220.
2.03 | Powers and Duties of the Board of Directors | 12/11/14 | 11/17/15, 80 FR 71695
2.04 | Powers and Duties of the Control Officer | 12/11/14 | 11/17/15, 80 FR 71695
2.05 | Severability | 12/11/14 | 11/17/15, 80 FR 71695
2.06 | Confidentiality of Records and Information | 12/11/14 | 11/17/15, 80 FR 71695
Olympic Region Clean Air Agency Regulations
8.1.6 | Penalties | 5/22/10 | 10/3/13, 78 FR 61188
Southwest Clean Air Agency Regulations
400-220 | Requirements for Board Members | 3/18/01 | 04/10/17, [Insert Federal Register citation]
400-230 | Regulatory Actions and Civil Penalties | 10/9/16 | 04/10/17, [Insert Federal Register citation]
400-240 | Criminal Penalties | 3/18/01 | 04/10/17, [Insert Federal Register citation]
400-250 | Appeals | 11/9/03 | 04/10/17, [Insert Federal Register citation]
400-260 | Conflict of Interest | 3/18/01 | 04/10/17, [Insert Federal Register citation]
400-270 | Confidentiality of Records and Information | 11/9/03 | 04/10/17, [Insert Federal Register citation]
400-280 | Powers of Agency | 3/18/01 | 04/10/17, [Insert Federal Register citation]
Spokane Regional Clean Air Agency Regulations
8.11 | Regulatory Actions and Penalties | 09/02/14 | 09/28/15, 80 FR 58216

* * * * *

3. Amend § 52.2498 by revising paragraph (a)(2) to read as follows:

§ 52.2498 Visibility protection.

(a) * * *

(2) Sources subject to the jurisdiction of local air authorities (except Benton Clean Air Agency and Southwest Clean Air Agency);

* * * * *

[FR Doc. 2017-07022 Filed 4-7-17; 8:45 am]

BILLING CODE 6560-50-P